DEPARTMENT OF JUSTICE

Notice of Lodging of Consent Decree Under the Clean Air Act

Notice is hereby given that on August 24, 2012, a proposed consent decree in United States of America and Mecklenburg County v. Emerald Carolina Chemical, LLC, Civil Action No. 3:12-cv-00554, was lodged with the United States District Court for the Western District of North Carolina.

In this action the United States and Mecklenburg County sought civil penalties and injunctive relief for alleged violations of Clean Air Act regulations at Emerald Carolina Chemical's chemical processing plant at 8309 Wilkinson Boulevard, Charlotte, Mecklenburg County, North Carolina. In particular, the complaint alleged violations of leak detection and repair requirements applicable to certain equipment at the plant. The proposed consent decree requires Emerald Carolina Chemical to pay a civil penalty of $62,500 to the United States and $62,500 to Mecklenburg County. Further, Emerald Carolina Chemical will implement additional inspection and monitoring procedures and analyze potential hazards associated with its amino resins and glyoxal production units.

The Department of Justice will receive for a period of thirty (30) days from the date of this publication comments relating to the proposed consent decree. Comments should be addressed to the Assistant Attorney General, Environment and Natural Resources Division, and either emailed to pubcomment-ees.enrd@usdoj.gov or mailed to P.O. Box 7611, U.S. Department of Justice, Washington, DC 20044-7611, and should refer to United States of America and Mecklenburg County v. Emerald Carolina Chemical, LLC, D.J. Ref. 90-5-2-1-09526.

During the public comment period, the proposed consent decree may also be examined on the following Department of Justice Web site, http://www.usdoj.gov/enrd/Consent_Decrees.html. A copy of the decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $11 (25 cents per page reproduction cost) payable to the U.S. Treasury or, if requesting by email or fax, forward a check in that amount to the Consent Decree Library at the address given above.

Henry Friedman,
Assistant Chief, Environmental Enforcement Section, Environment and Natural Resources Division.

[FR Doc. 2012-21558 Filed 8-30-12; 8:45 am]

BILLING CODE 4410-15-P